DEPARTMENT OF TRANSPORTATION

Office of the Secretary

[Docket No. DOT-OST-2012-0087]

Advisory Committee for Aviation Consumer Protection

AGENCY: Office of the Secretary (OST), Department of Transportation (DOT).

ACTION: Notice of sixth meeting of advisory committee.

SUMMARY: This notice announces the sixth meeting of the Advisory Committee for Aviation Consumer Protection.

DATES: The sixth meeting of the advisory committee is scheduled for October 29, 2014, from 9:00 a.m. to 4:00 p.m., Eastern Time.

ADDRESSES: The meeting will be held in the Media Center (located on the lobby level of the West Building) at the U.S. Department of Transportation (DOT) headquarters, 1200 New Jersey Avenue SE., Washington, DC. Attendance is open to the public up to the room's capacity of 100 attendees. Since space is limited and access to the DOT headquarters building is controlled for security purposes, any member of the general public who plans to attend this meeting must notify the Department contact identified below no later than October 22, 2014.

FOR FURTHER INFORMATION CONTACT: To register to attend the meeting, please contact Amy Przybyla, Research Analyst, Centra Technology, Inc., przybylaa@centratechnology.com; 703-894-6910. For other information please contact Kathleen Blank Riether, Senior Attorney, Office of Aviation Enforcement and Proceedings, kathleen.blankriether@dot.gov; U.S. Department of Transportation, 1200 New Jersey Ave. SE., Washington, DC 20590; 202-366-9342 (phone), 202-366-5944 (fax).

SUPPLEMENTARY INFORMATION: On May 24, 2012, the Secretary, as mandated by Section 411 of the FAA Modernization and Reform Act of 2012 (Pub. L. 112-95, 126 Stat. 11 (2012)), established the Advisory Committee on Aviation Consumer Protection. The committee's charter, drafted in accordance with the Federal Advisory Committee Act (FACA), as amended, 5 U.S.C. App. 2, sets forth policies for the operation of the advisory committee and is available on the Department's Web site at http://www.facadatabase.gov/committee/charters.aspx?cid=2448&aid=47.

The sixth meeting of the committee is scheduled for Wednesday, October 29, 2014, from 9:00 a.m. to 4:00 p.m. Eastern Time in the Media Center at the DOT headquarters, 1200 New Jersey Avenue SE., Washington, DC 20590. At the meeting, the three issues that will be discussed are: (1) The impact of airline mergers and consolidations on consumers and the aviation industry; (2) regulating the use of mobile wireless devices for voice calls on aircraft by DOT; and (3) the impact of government-imposed taxes and fees on consumers and the aviation industry. Additionally, the DOT's Office of Aviation Enforcement and Proceedings (Enforcement Office) will provide an update on the implementation status of the committee's recommendations to the Secretary as well as an update regarding its rulemaking and enforcement activities.

As announced in the notices of previous meetings of the committee, the meeting will be open to the public, and, time permitting, comments by members of the public are invited. Attendance will necessarily be limited by the size of the meeting room (maximum 100 attendees). If interest exceeds capacity, DOT has the capability to stream the event live on the Internet. Since space is limited and access to the DOT headquarters building is controlled for security purposes, we ask that any member of the general public who plans to attend the sixth meeting notify the Department contact noted above no later than October 22, 2014.

Members of the public may present written comments at any time. The docket number referenced above (DOT-OST-2012-0087, available at https://www.regulations.gov) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department contact noted above via email that they wish to attend and present oral comments at no later than October 22, 2014.

Persons with a disability who plan to attend the meeting and require special accommodations, such as an interpreter for the hearing impaired, should notify the Department contact noted above no later than October 22, 2014. Persons attending with a service animal should also advise us of that fact so that it can be taken into account in connection with space and possible allergy issues.

Notice of this meeting is being provided in accordance with the FACA and the General Services Administration regulations covering management of Federal advisory committees. (41 CFR Part 102-3.)

Issued in Washington, DC, on October 6, 2014.
Blane A. Workie,
Acting Assistant General Counsel for Aviation Enforcement & Proceedings, U.S. Department of Transportation.

[FR Doc. 2014-24361 Filed 10-10-14; 8:45 am]

BILLING CODE 4910-9X-P